DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of seven individuals that have been placed on OFAC's Specially Designated Nationals and Blocked Persons List based on OFAC's determination that one or more applicable legal criteria were satisfied. All property and interests in property subject to U.S. jurisdiction of these individuals are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action

On February 9, 2023, OFAC determined that the property and interests in property subject to U.S. jurisdiction of the following individuals are blocked under the relevant sanctions authority listed below.

Individuals

1. ISKRITSKY, Mikhail (a.k.a. “Mty”; a.k.a. “Tropa”), Moscow, Russia; DOB 05 Nov 1981; nationality Russia; Email Address wet-dhg@rambler.ru; Gender Male (individual) [CYBER2].

Designated pursuant to section l(a)(iii)(B) of Executive Order 13694 of April 1, 2015, “Blocking the Property of Certain Persons Engaging in Significant Malicious Cyber-Enabled Activities”, 80 FR 18077, 3 CFR, 2015 Comp., p. 297, as amended by Executive Order 13757 of December 28, 2016, “Taking Additional Steps to Address the National Emergency With Respect to Significant Malicious Cyber-Enabled Activities”, 82 FR 1, 3 CFR, 2016 Comp., p. 659 (E.O. 13694, as amended) for having materially assisted, sponsored, or provided financial, material, or technological support for, or goods or services to or in support of, an activity described in section 1(a)(ii) of E.O. 13694, as amended.

2. KARYAGIN, Valentin Olegovich (a.k.a. “Globus”), Volgograd, Russia; DOB 19 Apr 1992; nationality Russia; Email Address valentin.karyagin@gmail.com; alt. Email Address globus290382@yandex.ru; alt. Email Address valentinka.ne@mail.ru; alt. Email Address v.karyagin@neovox.ru; Gender Male (individual) [CYBER2].

Designated pursuant to section l(a)(iii)(B) of E.O. 13694, as amended, for having materially assisted, sponsored, or provided financial, material, or technological support for, or goods or services to or in support of, an activity described in section 1(a)(ii) of E.O. 13694, as amended.

3. MIKHAILOV, Maksim Sergeevich (a.k.a. “Baget”), Sevastopol, Ukraine; DOB 29 Jul 1976; nationality Ukraine; Gender Male (individual) [CYBER2].

Designated pursuant to section l(a)(iii)(B) of E.O. 13694, as amended, for having materially assisted, sponsored, or provided financial, material, or technological support for, or goods or services to or in support of, an activity described in section 1(a)(ii) of E.O. 13694, as amended.

4. PLESHEVSKIY, Dmitry (a.k.a. “Iseldor”), Zelenograd, Russia; DOB 30 Jul 1992; nationality Russia; Email Address pleshevskiy@gmail.com; alt. Email Address dmitriy@ideascup.me; alt. Email Address support@ideascup.me; alt. Email Address pleshevskie@gmail.com; Gender Male (individual) [CYBER2].

Designated pursuant to section l(a)(iii)(B) of E.O. 13694, as amended, for having materially assisted, sponsored, or provided financial, material, or technological support for, or goods or services to or in support of, an activity described in section 1(a)(ii) of E.O. 13694, as amended.

5. SEDLETSKI, Valery (a.k.a. SEDLETSKI, Valery Veniaminovich; a.k.a. “Strix”), Rostov, Russia; DOB 29 Jul 1974; nationality Russia; Gender Male (individual) [CYBER2].

Designated pursuant to section l(a)(iii)(B) of E.O. 13694, as amended, for having materially assisted, sponsored, or provided financial, material, or technological support for, or goods or services to or in support of, an activity described in section 1(a)(ii) of E.O. 13694, as amended.

6. VAKHROMEYEV, Ivan Vasilyevich (a.k.a. VAKROMEEV, Ivan Vasilievich; a.k.a. “Mushroom”), Naro-Fominsk, Russia; DOB 29 Dec 1988; nationality Russia; Email Address ivanalert@mail.ru; Gender Male (individual) [CYBER2].

Designated pursuant to section l(a)(iii)(B) of E.O. 13694, as amended, for having materially assisted, sponsored, or provided financial, material, or technological support for, or goods or services to or in support of, an activity described in section 1(a)(ii) of E.O. 13694, as amended.

7. KOVALEV, Vitaly Nikolayevich (a.k.a. KOVALEV, Vitaliy; a.k.a. “Ben”; a.k.a. “Bentley”), Russia; DOB 23 Jun 1988; nationality Russia; Gender Male (individual) [CYBER2].

Designated pursuant to section l(a)(iii)(B) of E.O. 13694, as amended, for having materially assisted, sponsored, or provided financial, material, or technological support for, or goods or services to or in support of, an activity described in section 1(a)(ii) of E.O. 13694, as amended.

Dated: February 9, 2023.
Andrea Gacki,
Director, Office of Foreign Assets Control, U.S. Department of the Treasury.

[FR Doc. 2023-03118 Filed 2-13-23; 8:45 am]

BILLING CODE 4810-AL-P